ENVIRONMENTAL PROTECTION AGENCY

[ER-FRL-6669-8]

Environmental Impacts Statements; Notice of Availability

Responsible Agency: Office of Federal Activities, General Information (202) 564-7167 or http://www.epa.gov/compliance/nepa/.

Weekly receipt of Environmental Impact Statements

Filed 11/21/2005 through 11/25/2005

Pursuant to 40 CFR 1506.9.

EIS No. 20050497, Third Final EIS (Tiering), FHW, MO, Interstate 70 Corridor Improvements, Section of Independent Utility #7, a 40-Mile Portion of the I-70 Corridor from just West of Route 19 (milepost 174) to Lake St. Louis Boulevard (milepost 214) Montgomery, Warren, St. Charles Counties, MO. Wait Period Ends: 01/03/2006. Contact: Peggy Casey 573-636-7104.

EIS No. 20050498, Draft EIS, BLM, WY, Seminoe Road Natural Gas Development Project, Proposed Coalbed Natural Gas Development and Operation, Carbon County, WY. Comment Period Ends: 01/31/2006. Contact: David Simons 307-328-4328.

EIS No. 20050499, Final EIS, AFS, MO, Mark Twain National Forest Land and Resource Management Plan, Implementation, Revise to the 1986 Land and Resource Management Plan, several counties, MO. Wait Period Ends: 01/03/2006. Contact: Laura Watts 573-341-7471.

EIS No. 20050500, Draft EIS, AFS, ID, Newsome Creek Watershed Rehabilitation, Stream Restoration and Improvement and Decommissioning of Roads, Red River Ranger District, Nez Perce National Forest, Idaho County, ID. Comment Period Ends: 01/17/2006. Contact: Stephanie Bransford 208-842-2113.

Amended Notices

EIS No. 20050350, Draft EIS, COE, CA, Encinitas/Solana Beach Shoreline Protection Project, To Protect Public Safety and Reduce Storm-Related Damages to Coastal Structures, Cities of Encinitas and Solana Beach, San Diego County, CA. Comment Period Ends: 01/17/2006. Contact: Shannon Dellaquila 213-452-3846. Revision to FR Notice Published 08/26/2005. Comment Period Extended from 10/11/2005 to 01/17/2006.

Dated: November 29, 2005.
Robert W. Hargrove,
Director, NEPA Compliance Division, Office of Federal Activities.

[FR Doc. 05-23557 Filed 12-1-05; 8:45 am]

BILLING CODE 6560-50-P